DEPARTMENT OF JUSTICE

Federal Bureau of Investigation

[OMB Number 1110-New]

Agency Information Collection Activities: Proposed Collection, Comments Requested; E-FOIA

ACTION: 60-day notice of information collection under review.

The Department of Justice, Federal Bureau of Investigation, Records Management Division Record Information Dissemination Section (RIDS) will be submitting the following information collection request to the Office of Management and Budget (OMB) for review and clearance in accordance with established review procedures of the Paperwork Reduction Act of 1995. The proposed information collection is published to obtain comments from the public and affected agencies. Comments are encouraged and will be accepted until December 27, 2011. This process is conducted in accordance with 5 CFR 1320.10.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Jason Combs at 540-868-4995, or the DOJ Desk Officer at 202-395-3176.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of This Information Collection:

(1) Type of information collection: Revision of a currently approved collection.

(2) The title of the form/collection: E-FOIA Submission Form.

(3) The agency form number, if any, and the applicable component of the department sponsoring the collection: Records Management Division/Record Information Dissemination Section, Federal Bureau of Investigation, Department of Justice.

(4) Affected public who will be asked or required to respond, as well as a brief abstract:

Primary: FOIA requesters (general public, educational institutions, commercial requesters etc).

Abstract: The Record/Information Dissemination Section (RIDS) effectively plans, develops, directs, and manages responses to requests for access to FBI records and information. The requests and disclosure comply with the Freedom of Information and Privacy Acts (Title 5, United States Code, Sections 552 and 552a) and the Freedom of Information Act Executive Order 13392, as well as the Classified National Security Information Executive Order 13526, other Presidential, Attorney General, and FBI policies, procedures, and mandates; judicial decisions; and Congressional directives.

(5) An estimate of the total number of respondents and the amount of time estimated for an average respondent to respond: Of the approximately 18,445 government entities that are eligible to submit cases, it is estimated that twenty to thirty percent will actually submit cases to RMD/RIDS. The time burden of the respondents is less than 15 minutes per form.

(6) An estimate of the total public burden (in hours) associated with this collection: There are approximately 1,350 hours, annual burden, associated with this information collection.

If additional information is required contact: Jerri Murray, Department Clearance Officer, Policy and Planning Staff, Justice Management Division, United States Department of Justice, 145 N Street, NE., Room 2E-508, Washington, DC 20530.

Jerri Murray,
Department Clearance Officer, PRA, United States Department of Justice.

[FR Doc. 2011-27605 Filed 10-25-11; 8:45 am]

BILLING CODE 4410-02-P